ENVIRONMENTAL PROTECTION AGENCY

40 CFR Ch. I

[FRL 9752-01-OA; EPA-HQ-OAR-2021-0

Spring 2022 Unified Agenda of Regulatory and Deregulatory Actions

AGENCY: Environmental Protection Agency.

ACTION: Semiannual regulatory agenda.

SUMMARY: The Environmental Protection Agency (EPA) publishes the Semiannual Agenda of Regulatory and Deregulatory Actions online at https://www.reginfo.gov to periodically update the public. This document contains information about:

• Regulations in the Semiannual Agenda that are under development, completed, or canceled since the last agenda; and

• Reviews of regulations with small business impacts under Section 610 of the Regulatory Flexibility Act.

FOR FURTHER INFORMATION CONTACT: If you have questions or comments about a particular action, please get in touch with the agency contact listed in each agenda entry. If you have general questions about the Semiannual Agenda, please contact: Caryn Muellerleile (muellerleile.caryn@epa.gov; 202-564-2855).

Table of Contents

I. Introduction

A. EPA's Regulatory Information

B. What key statutes and executive orders guide EPA's rule and policymaking process?

C. How can you be involved in EPA's rule and policymaking process?

II. Semiannual Agenda of Regulatory and Deregulatory Actions

A. What actions are included in the e-Agenda and the Regulatory Flexibility Agenda?

B. How is the e-Agenda organized?

C. What Information is in the Regulatory Flexibility Agenda and the e-Agenda?

D. What tools are available for mining regulatory agenda data and for finding more about EPA rules and policies?

III. Review of Regulations Under Section 610 of the Regulatory Flexibility Act

A. Reviews of Rules With Significant Impacts on a Substantial Number of Small Entities

B. What other special attention does EPA give to the impacts of rules on small businesses, small governments, and small nonprofit organizations?

IV. Thank You for Collaborating With Us

SUPPLEMENTARY INFORMATION:

I. Introduction

EPA is committed to a regulatory strategy that effectively achieves the Agency's mission of protecting human health and the environment. EPA publishes the Semiannual Agenda of Regulatory and Deregulatory Actions to update the public about regulatory activity undertaken in support of this mission. In the Semiannual Agenda, EPA provides notice of our plans to review, propose, and issue regulations. EPA is committed to environmental protection that benefits all communities and encourages public participation and meaningful engagement in our regulatory activities and processes.

Additionally, EPA's Semiannual Agenda includes information about rules that may have a significant economic impact on a substantial number of small entities, and review of those regulations under the Regulatory Flexibility Act as amended.

In this document, EPA explains in greater detail the types of actions and information available in the Semiannual Agenda and actions that are currently undergoing review specifically for impacts on small entities.

A. EPA's Regulatory Information

“E-Agenda,” “online regulatory agenda,” and “semiannual regulatory agenda” all refer to the same comprehensive collection of information that, until 2007, was published in the Federal Register. Currently, this information is only available through an online database at https://www.reginfo.gov/.

“Regulatory Flexibility Agenda” refers to a document that contains information about regulations that may have a significant impact on a substantial number of small entities. We continue to publish this document in the Federal Register pursuant to the Regulatory Flexibility Act of 1980. This document is available at https://www.govinfo.gov/app/collection/fr.

“Unified Regulatory Agenda” refers to the collection of all agencies' agendas with an introduction prepared by the Regulatory Information Service Center facilitated by the U.S. General Services Administration.

“Regulatory Agenda Preamble” refers to the document you are reading now. It appears as part of the Regulatory Flexibility Agenda and introduces both EPA's Regulatory Flexibility Agenda and the e-Agenda.

“Section 610 Review” as required by the Regulatory Flexibility Act means a periodic review within ten years of promulgating a final rule that has or may have a significant economic impact on a substantial number of small entities. EPA maintains a list of these actions at https://www.epa.gov/reg-flex/section-610-reviews. EPA is completing one Section 610 review in spring 2022.

B. What key statutes and executive orders guide EPA's rule and policymaking process?

Several environmental laws authorize EPA's actions, including but not limited to:

• Clean Air Act (CAA),

• Clean Water Act (CWA),

• Comprehensive Environmental Response, Compensation, and Liability Act (CERCLA, or Superfund),

• Emergency Planning and Community Right-to-Know Act (EPCRA),

• Federal Insecticide, Fungicide, and Rodenticide Act (FIFRA),

• Resource Conservation and Recovery Act (RCRA),

• Safe Drinking Water Act (SDWA), and

• Toxic Substances Control Act (TSCA).

EPA must comply not only with environmental laws, but also with administrative legal requirements that apply to the issuance of regulations, such as the Administrative Procedure Act (APA), the Regulatory Flexibility Act (RFA) as amended by the Small Business Regulatory Enforcement Fairness Act (SBREFA), the Unfunded Mandates Reform Act (UMRA), the Paperwork Reduction Act (PRA), the National Technology Transfer and Advancement Act (NTTAA), and the Congressional Review Act (CRA).

EPA also meets a number of requirements contained in numerous Executive Orders: 12866, “Regulatory Planning and Review” (58 FR 51735, Oct. 4, 1993), as supplemented by Executive Order 13563, “Improving Regulation and Regulatory Review” (76 FR 3821, Jan. 21, 2011); 12898, “Environmental Justice” (59 FR 7629, Feb. 16, 1994); 13045, “Children's Health Protection” (62 FR 19885, Apr. 23, 1997); 13132, “Federalism” (64 FR 43255, Aug. 10, 1999); 13175, “Consultation and Coordination with Indian Tribal Governments” (65 FR 67249, Nov. 9, 2000); 13211, “Actions Concerning Regulations That Significantly Affect Energy Supply, Distribution, or Use” (66 FR 28355, May 22, 2001).

C. How can you be involved in EPA's rule and policymaking process?

You can make your voice heard by getting in touch with the contact person provided in each agenda entry. EPA encourages you to participate as early in the process as possible. You may also participate by commenting on proposed rules published in the Federal Register (FR).

Instructions on how to submit your comments through https://www.regulations.gov are provided in each Notice of Proposed Rulemaking (NPRM). To be most effective, comments should contain information and data that support your position, and you also should explain why EPA should incorporate your suggestion in the rule or other type of action. You can be particularly helpful and persuasive if you provide examples to illustrate your concerns and offer specific alternative(s) to what has been proposed by EPA.

EPA believes its actions will be more cost effective and protective if the development process includes stakeholders working with us to help identify the most practical and effective solutions to environmental problems. EPA encourages you to become involved in its rule- and policymaking processes. For more information about EPA's efforts to increase transparency, participation, and collaboration in EPA activities, please visit https://www.epa.gov/laws-regulations/get-involved-epa-regulations.

II. Semiannual Agenda of Regulatory and Deregulatory Actions

A. What actions are included in the e-Agenda and the Regulatory Flexibility Agenda?

EPA includes regulations in the e-Agenda. However, there is no legal significance to the omission of an item from the agenda, and EPA generally does not include the following categories of actions:

• Administrative actions such as delegations of authority, changes of address, or phone numbers.

• Under the CAA: Revisions to state implementation plans; equivalent methods for ambient air quality monitoring; deletions from the new source performance standards source categories list; delegations of authority to states; area designations for air quality planning purposes.

• Under FIFRA: Registration-related decisions, actions affecting the status of currently registered pesticides, and data call-ins.

• Under the Federal Food, Drug, and Cosmetic Act: Actions regarding pesticide tolerances and food additive regulations.

• Under TSCA: Licensing actions and new chemical actions.

• Under RCRA: Authorization of State solid waste management plans and hazardous waste delisting petitions.

• Under the CWA: State Water Quality Standards, deletions from the section 307(a) list of toxic pollutants, suspensions of toxic testing requirements under the National Pollutant Discharge Elimination System (NPDES), and delegations of NPDES authority to States.

• Under SDWA: Actions on State underground injection control programs.

Meanwhile, the Regulatory Flexibility Agenda includes:

• Actions likely to have a significant economic impact on a substantial number of small entities.

• Rules the Agency has identified for periodic review under section 610 of the RFA.

EPA is announcing the completion of one review in this Agenda.

B. How Is the e-Agenda organized?

Online, you can choose how to sort the agenda entries by specifying the characteristics of the entries of interest in the desired individual data fields of the e-Agenda at https://www.reginfo.gov. You can sort based on the following characteristics: EPA subagency (such as Office of Water), stage of rulemaking as described in the following paragraphs, alphabetically by title, or the Regulation Identifier Number (RIN), which is assigned sequentially when an action is added to the agenda.

Each entry in the Agenda is associated with one of five rulemaking stages. The rulemaking stages are:

1. Pre-rule Stage—EPA's pre-rule actions generally are intended to determine whether the agency should initiate rulemaking. Pre-rulemakings may include anything that influences or leads to rulemaking; this would include Advance Notices of Proposed Rulemaking (ANPRMs), studies or analyses of the possible need for regulatory action.

2. Proposed Rule Stage—Proposed rulemaking actions include EPA's Notice of Proposed Rulemakings (NPRMs); these proposals are scheduled to publish in the Federal Register within the next year.

3. Final Rule Stage—Final rulemaking actions are those actions that EPA is scheduled to finalize and publish in the Federal Register within the next year.

4. Long-Term Actions—This section includes rulemakings for which the next scheduled regulatory action (such as publication of a NPRM or final rule) is twelve or more months into the future. We urge you to explore becoming involved even if an action is listed in the Long-Term category.

5. Completed Actions—EPA's completed actions are those that have been promulgated and published in the Federal Register since publication of the fall 2021 Agenda. This category also includes actions that EPA is no longer considering and has elected to “withdraw” and the results of any RFA section 610 reviews.

C. What Information is in the Regulatory Flexibility Agenda and the e-Agenda?

The Regulatory Flexibility Agenda entries include only the nine categories of information that are required by the Regulatory Flexibility Act of 1980 and by Federal Register Agenda printing requirements: Sequence Number, RIN, Title, Description, Statutory Authority, Section 610 Review, if applicable, Regulatory Flexibility Analysis Required, Schedule and Contact Person. Note that the electronic version of the Agenda (E-Agenda) replicates each of these actions with more extensive information, described below.

E-Agenda entries include:

Title: a brief description of the subject of the regulation. The notation ”Section 610 Review” follows the title if we are reviewing the rule as part of our periodic review of existing rules under section 610 of the RFA (5 U.S.C. 610).

Priority: Each entry is placed into one of the five following categories:

a. Economically Significant: Under Executive Order 12866, a rulemaking that may have an annual effect on the economy of $100 million or more, or adversely affect in a material way the economy, a sector of the economy, productivity, competition, jobs, the environment, public health or safety, or State, local, or tribal governments or communities.

b. Other Significant: A rulemaking that is not economically significant but is considered significant for other reasons. This category includes rules that may:

1. Create a serious inconsistency or otherwise interfere with an action taken or planned by another agency.

2. Materially alter the budgetary impact of entitlements, grants, user fees, or loan programs, or the rights and obligations of recipients; or

3. Raise novel legal or policy issues arising out of legal mandates, the President's priorities, or the principles in Executive Order 12866.

c. Substantive, Nonsignificant: A rulemaking that has substantive impacts but is not Significant, Routine and Frequent, or Informational/Administrative/Other.

d. Routine and Frequent: A rulemaking that is a specific case of a recurring application of a regulatory program in the Code of Federal Regulations. If an action that would normally be classified Routine and Frequent is reviewed by the Office of Management and Budget (OMB) under Executive Order 12866, then we would classify the action as either “Economically Significant” or “Other Significant.”

e. Informational/Administrative/Other: An action that is primarily informational or pertains to an action outside the scope of Executive Order 12866.

Major: A rule is “major” under 5 U.S.C. 801 (Pub. L. 104-121) if it has resulted or is likely to result in an annual effect on the economy of $100 million or more or meets other criteria specified in the Congressional Review Act.

Unfunded Mandates: Whether the rule is covered by section 202 of the Unfunded Mandates Reform Act of 1995 (Pub. L. 104-4). The Act requires that, before issuing an NPRM likely to result in a mandate that may result in expenditures by State, local, and tribal governments, in the aggregate, or by the private sector of more than $100 million in 1 year, the agency prepare a written statement on federal mandates addressing costs, benefits, and intergovernmental consultation.

Legal Authority: The sections of the United States Code (U.S.C.), Public Law (Pub. L.), Executive Order (E.O.), or common name of the law that authorizes the regulatory action.

CFR Citation: The sections of the Code of Federal Regulations that would be affected by the action.

Legal Deadline: An indication of whether the rule is subject to a statutory or judicial deadline, the date of that deadline, and whether the deadline pertains to a NPRM, a Final Action, or some other action.

Abstract: A brief description of the problem the action will address.

Timetable: The dates and citations (if available) for all past steps and a projected date for at least the next step for the regulatory action. A date displayed in the form 05/00/23 means the agency is predicting the month and year the action will take place but not the day it will occur. For some entries, the timetable indicates that the date of the next action is “to be determined.”

Regulatory Flexibility Analysis Required: Indicates whether EPA has prepared or anticipates preparing a regulatory flexibility analysis under section 603 or 604 of the RFA. Generally, such an analysis is required for proposed or final rules subject to the RFA that EPA believes may have a significant economic impact on a substantial number of small entities.

Small Entities Affected: Indicates whether the rule is anticipated to have any effect on small businesses, small governments, or small nonprofit organizations.

Government Levels Affected: Indicates whether the rule may have any effect on levels of government and, if so, whether the affected governments are State, local, tribal, or Federal.

Federalism Implications: Indicates whether the action is expected to have substantial direct effects on the States, on the relationship between the National Government and the States, or on the distribution of power and responsibilities among the various levels of government.

Energy Impacts: Indicates whether the action is a significant energy action under Executive Order 13211.

Sectors Affected: Indicates the main economic sectors regulated by the action. The regulated parties are identified by their North American Industry Classification System (NAICS) codes. These codes were created by the Census Bureau for collecting, analyzing, and publishing statistical data on the U.S. economy. There are more than 1,000 NAICS codes for sectors in agriculture, mining, manufacturing, services, and public administration.

International Trade Impacts: Indicates whether the action is likely to have international trade or investment effects, or otherwise be of international interest.

Agency Contact: The name, address, phone number, and email address, if available, of a person who is knowledgeable about the regulation.

Additional Information: Other information about the action including docket information.

URLs: For some actions, the internet addresses are included for reading copies of rulemaking documents, submitting comments on proposals, and getting more information about the rulemaking and the program of which it is a part.

RIN: The Regulation Identifier Number is used by OMB to identify and track rulemakings. The first four digits of the RIN correspond to the EPA office with lead responsibility for developing the action.

D. What tools are available for mining regulatory agenda data and for finding more about EPA rules and policies?

1. Federal Regulatory Dashboard

The https://www.reginfo.gov searchable database maintained by the Regulatory Information Service Center and OMB's Office of Information and Regulatory Affairs (OIRA), allows users to view the Regulatory Agenda database (https://www.reginfo.gov/public/do/eAgendaMain), with options for searching, displaying, and data transmission.

2. Subject Matter EPA Websites

Some actions listed in the Agenda include a URL for an EPA-maintained website that provides additional information about the action.

3. Public Dockets

When EPA publishes either an Advance Notice of Proposed Rulemaking (ANPRM) or a Notice of Proposed Rulemaking (NPRM) in the Federal Register, the Agency typically establishes a docket to accumulate materials developed throughout the development process for that rulemaking. The docket serves as the repository for the collection of documents or information related to that Agency's action or activity. EPA uses dockets primarily for rulemaking actions, but dockets may also be used for section 610 reviews and for various non-rulemaking activities, such as Federal Register documents seeking public comments on draft guidance, policy statements, information collection requests under the PRA, and other non-rule activities. Docket information should be in that action's agenda entry. All of EPA's public dockets can be located at https://www.regulations.gov. EPA particularly welcomes feedback on rulemakings from communities likely to be affected by these actions.

III. Review of Regulations Under Section 610 of the Regulatory Flexibility Act

A. Reviews of Rules With Significant Impacts on a Substantial Number of Small Entities

Section 610 of the RFA requires that an agency review, within 10 years of promulgation, each rule that has or will have a significant economic impact on a substantial number of small entities. Currently, EPA is announcing the completion of one Section 610 review.

Review title | RIN | Docket ID # | Status
Section 610 Review of National Emission Standards for Hazardous Air Pollutants for Coal-and Oil-Fired Electric Utility Steam Generating Units | 2060-AV08 | EPA-HQ-OAR-2021-0152 | Completed.

EPA established a public docket for this Section 610 review. While comments for the completed review are no longer accepted, submitted comments and the final report can be viewed at https://www.regulations.gov/, docket EPA-HQ-OAR-2021-0152.

B. What other special attention does EPA give to the impacts of rules on small businesses, small governments, and small nonprofit organizations?

For each of EPA's rulemakings, consideration is given to whether there will be any adverse impact on any small entity. EPA attempts to fit the regulatory requirements, to the extent feasible, to the scale of the businesses, organizations, and governmental jurisdictions subject to the regulation.

Under the RFA as amended by SBREFA, the Agency must prepare a formal analysis of the potential negative impacts on small entities, convene a Small Business Advocacy Review Panel (proposed rule stage), and prepare a Small Entity Compliance Guide (final rule stage) unless the Agency certifies a rule will not have a significant economic impact on a substantial number of small entities. For more detailed information about the Agency's policy and practice with respect to implementing the RFA/SBREFA, please visit EPA's RFA/SBREFA website at https://www.epa.gov/reg-flex.

IV. Thank You for Collaborating With Us

Finally, we would like to thank those of you who choose to join with us in making progress on the complex issues involved in protecting human health and the environment. Collaborative efforts such as EPA's open rulemaking process are valuable tools for addressing the problems we face, and the regulatory agenda plays an important role in that process.

Victoria Arroyo,
Associate Administrator, Office of Policy.

10—Clean Air Act—Proposed Rule Stage
Sequence No. | Title | Regulation Identifier No.
189 | National Emission Standards for Hazardous Air Pollutants: Ethylene Oxide Commercial Sterilization and Fumigation Operations | 2060-AU37
190 | Standards of Performance for New, Reconstructed, and Modified Sources and Emissions Guidelines for Existing Sources: Oil and Natural Gas Sector Climate Review | 2060-AV16
191 | Revisions to the Air Emission Reporting Requirements (AERR) | 2060-AV41

10—Clean Air Act—Completed Actions
Sequence No. | Title | Regulation Identifier No.
192 | Section 610 Review of National Emission Standards for Hazardous Air Pollutants for Coal-and Oil-Fired Electric Utility Steam Generating Units (Completion of a Section 610 Review) | 2060-AV08

35—TSCA—Proposed Rule Stage
Sequence No. | Title | Regulation Identifier No.
193 | Methylene Chloride; Rulemaking Under TSCA Section 6(a) | 2070-AK70
194 | 1-Bromopropane; Rulemaking Under TSCA Section 6(a) | 2070-AK73
195 | Trichloroethylene; Rulemaking Under TSCA Section 6(a) | 2070-AK83
196 | Perchloroethylene; Rulemaking Under TSCA Section 6(a) | 2070-AK84
197 | N-Methylpyrrolidone; Rulemaking Under TSCA Section 6(a) | 2070-AK85

35—TSCA—Long-Term Actions
Sequence No. | Title | Regulation Identifier No.
198 | Cyclic Aliphatic Bromide Cluster (HBCD); Rulemaking Under TSCA Section 6(a) | 2070-AK71
199 | C.I. Pigment Violet 29; Rulemaking Under TSCA Section 6(a) | 2070-AK87

ENVIRONMENTAL PROTECTION AGENCY (EPA)

10—Clean Air Act

Proposed Rule Stage

189. National Emission Standards for Hazardous Air Pollutants: Ethylene Oxide Commercial Sterilization and Fumigation Operations [2060-AU37]

Legal Authority: secs. 112 and 307(d)(7)(B) of the CAA as amended (42 U.S.C. 7412 and 7607(d)(7)(B)). This action is also subject to section 307(d) of the CAA (42 U.S.C. 7607(d)); 42 U.S.C. 7401

Abstract: In December 1994, pursuant to section 112(d) of the CAA, EPA promulgated the National Emission Standards for Hazardous Air Pollutants (NESHAP) for Ethylene Oxide Commercial Sterilization and Fumigation Operations (59 FR 62585). The NESHAP established standards for both major and area sources. EPA completed a residual risk and technology review for the NESHAP in 2006 and, at that time, concluded that no revisions to the standards were necessary. In this action, EPA will conduct the second technology review for the NESHAP and assess potential updates to the rule. To aid in this effort, EPA issued an advance notice of proposed rulemaking (ANPRM) that solicited comment from stakeholders and undertook a Small Business Advocacy Review (SBAR) panel, which is needed when there is the potential for significant economic impacts to small businesses from any regulatory actions being considered. EPA is also planning to undertake community outreach as part of the development of this action.

Timetable:

Action | Date | FR Cite
ANPRM | 12/12/19 | 84 FR 67889
NPRM | 08/00/22
Final Rule | 10/00/23

Regulatory Flexibility Analysis Required: Yes.

Agency Contact: Jon Witt, Environmental Protection Agency, Office of Air and Radiation, 109 T.W. Alexander Drive, Mail Code E143-05, Research Triangle Park, NC 27709, Phone: 919 541-5645, Email: witt.jon@epa.gov.

Steve Fruh, Environmental Protection Agency, Office of Air and Radiation, E143-01, 109 T.W. Alexander Drive, Research Triangle Park, NC 27711, Phone: 919 541-2837, Email: fruh.steve@epa.gov.

RIN: 2060-AU37

190. Standards of Performance for New, Reconstructed, and Modified Sources and Emissions Guidelines for Existing Sources: Oil and Natural Gas Sector Climate Review [2060-AV16]

Legal Authority: 42 U.S.C. 7411

Abstract: On January 20, 2021, President Joe Biden issued an Executive Order titled “Protecting Public Health and the Environment and Restoring Science to Tackle the Climate Crisis,” which directs the EPA to take certain actions by September 2021 to reduce methane and volatile organic compound (VOC) emissions in the oil and natural gas sector. Specifically, the Executive Order directs the EPA to review the new source performance standards (NSPS) issued in 2020 for the oil and gas sector and, as appropriate and consistent with applicable law, consider publishing for notice and comment a proposed rule suspending, revising, or rescinding the NSPS. The Executive Order further directs the EPA to consider proposing: (1) new regulations to establish comprehensive NSPS for methane and VOC emissions and (2) new regulations to establish emission guidelines for methane emissions from existing operations in the oil and gas sector, including from the exploration and production, transmission, processing, and storage segments. The purpose of this action is to review the existing NSPS and propose new standards as necessary to meet the directives set forth in the Executive Order, as well as to propose new emission guidelines for existing sources in the oil and gas sector.

Timetable:

Action | Date | FR Cite
NPRM | 11/15/21 | 86 FR 63110
NPRM Comment Period End | 01/14/22
Supplemental NPRM | 10/00/22
Final Rule | 05/00/23

Regulatory Flexibility Analysis Required: Yes.

Agency Contact: Karen Marsh, Environmental Protection Agency, Office of Air and Radiation, 109 T.W. Alexander Drive, Mail Code E143-01, Research Triangle Park, NC 27711, Phone: 919 541-1065, Email: marsh.karen@epa.gov.

Steve Fruh, Environmental Protection Agency, Office of Air and Radiation, 109 T.W. Alexander Drive, Mail Code E143-01, Research Triangle Park, NC 27711, Phone: 919 541-2837, Email: fruh.steve@epa.gov.

RIN: 2060-AV16

191. Revisions to the Air Emission Reporting Requirements (AERR) [2060-AV41]

Legal Authority: Clean Air Act

Abstract: This action proposes revisions to the existing Air Emissions Reporting Requirements (AERR) rule last revised on February 19, 2015 (80 FR 8787), and may include major revisions. The EPA is considering how to improve the quality and completeness of hazardous air pollutant (HAP) emissions from stationary sources and all pollutant emissions from prescribed fires. Further, the EPA is considering how best to quantify emissions from intermittent sources such as backup generators; how to obtain data from permitted facilities in Indian Country when a Tribe is not required to report emissions data; and how to address known data gaps, streamline processes, and improve data quality, documentation, and transparency for nonpoint and mobile sources.

Timetable:

Action | Date | FR Cite
NPRM | 03/00/23 |
Final Rule | 10/00/24 |

Regulatory Flexibility Analysis Required: Yes.

Agency Contact: Marc Houyoux, Environmental Protection Agency, Office of Air and Radiation, C339-02, Research Triangle Park, NC 27711, Phone: 919 541-3649, Fax: 919 541-0684, Email: houyoux.marc@epa.gov.

RIN: 2060-AV41

ENVIRONMENTAL PROTECTION AGENCY (EPA)

10—Clean Air Act

Completed Actions

192. Section 610 Review of National Emission Standards for Hazardous Air Pollutants for Coal- and Oil-Fired Electric Utility Steam Generating Units (Completion of a Section 610 Review) [2060-AV08]

Legal Authority: secs. 112 and 307(d)(7)(B) of the CAA as amended (42 U.S.C. 7412 and 7607(d)(7)(B)). This action is also subject to sec. 307(d) of the CAA (42 U.S.C. 7607(d))

Abstract: On February 16, 2012, EPA promulgated National Emission Standards for Hazardous Air Pollutants for Coal- and Oil-fired Electric Utility Steam Generating Units (77 FR 9304). The rule (40 CFR part 63, subpart UUUUU), commonly referred to as the Mercury and Air Toxics Standards (MATS), includes standards to control hazardous air pollutant emissions from new and existing coal- and oil-fired electric utility steam generating units located at both major and area sources of hazardous air pollutant emissions. This entry in the regulatory agenda announces that EPA has reviewed the MATS action pursuant to section 610 of the Regulatory Flexibility Act (5 U.S.C. 610) to determine if the provisions that could affect small entities should be continued without change or should be rescinded or amended to minimize adverse economic impacts on small entities. As part of the review, EPA solicited comments on the following factors: (1) The continued need for the rule; (2) the nature of complaints or comments received concerning the rule; (3) the complexity of the rule; (4) the extent to which the rule overlaps, duplicates, or conflicts with other Federal, State, or local government rules; and (5) the degree to which the technology, economic conditions or other factors have changed in the area affected by the rule. No comments were received. EPA has concluded that the rule does not need to be amended at this time and has addressed the review factors in a report. The report is available in Docket EPA-HQ-OAR-2021-0152, which can be accessed at www.regulations.gov.

Timetable:

Action | Date | FR Cite
Final Rule | 02/16/12 | 77 FR 9303
Begin Review | 07/30/21 | 86 FR 41276
End Review | 04/08/22 |

Regulatory Flexibility Analysis Required: No.

Agency Contact: Melanie King, Environmental Protection Agency, Office of Air and Radiation, 109 T.W. Alexander Drive, Mail Code D243-01, Research Triangle Park, NC 27711, Phone: 919 541-2469, Email: king.melanie@epa.gov.

Nick Hutson, Environmental Protection Agency, Office of Air and Radiation, 109 T.W. Alexander Drive, Mail Code D243-01, Research Triangle Park, NC 27711, Phone: 919 541-2968, Fax: 919 541-4991, Email: hutson.nick@epa.gov.

RIN: 2060-AV08

ENVIRONMENTAL PROTECTION AGENCY (EPA)

35—TSCA

Proposed Rule Stage

193. Methylene Chloride; Rulemaking Under TSCA Section 6(A) [2070-AK70]

Legal Authority: 15 U.S.C. 2605 Toxic Substances Control Act

Abstract: Section 6 of the Toxic Substances Control Act (TSCA) requires EPA to address unreasonable risks of injury to health or the environment that the Administrator has determined are presented by a chemical substance under the conditions of use. Following a risk evaluation for methylene chloride carried out under the authority of TSCA section 6, EPA initiated rulemaking to address unreasonable risks of injury to health identified in the final risk evaluation. EPA's risk evaluation for methylene chloride, describing the conditions of use and presenting EPA's determinations of unreasonable risk, is in docket EPA-HQ-OPPT-2019-0437, with additional information in docket EPA-HQ-OPPT-2016-0742.

Timetable:

Action | Date | FR Cite
NPRM | 02/00/23 |
Final Rule | 08/00/24 |

Regulatory Flexibility Analysis Required: Yes.

Agency Contact: Ingrid Feustel, Environmental Protection Agency, Office of Chemical Safety and Pollution Prevention, Mail Code 7405M, 1200 Pennsylvania Avenue NW, Washington, DC 20460, Phone: 202 564-3199, Email: feustel.ingrid@epa.gov.

Joel Wolf, Environmental Protection Agency, Office of Chemical Safety and Pollution Prevention, 1200 Pennsylvania Avenue NW, Mail Code 7405M, Washington, DC 20460, Phone: 202 564-0432, Email: wolf.joel@epa.gov.

RIN: 2070-AK70

194. 1-Bromopropane; Rulemaking Under TSCA Section 6(A) [2070-AK73]

Legal Authority: 15 U.S.C. 2605 Toxic Substances Control Act

Abstract: Section 6 of the Toxic Substances Control Act (TSCA) requires EPA to address unreasonable risks of injury to health or the environment that the Administrator has determined are presented by a chemical substance under the conditions of use. Following a risk evaluation for 1-bromopropane carried out under the authority of TSCA section 6, EPA initiated rulemaking to address unreasonable risks of injury to health identified in the final risk evaluation. EPA's risk evaluation for 1-bromopropane, describing the conditions of use and presenting EPA's determinations of unreasonable risk, is in docket EPA-HQ-OPPT-2019-0235, with additional information in docket EPA-HQ-OPPT-2016-0741.

Timetable:

Action | Date | FR Cite
NPRM | 05/00/23 |
Final Rule | 08/00/24 |

Regulatory Flexibility Analysis Required: Yes.

Agency Contact: Amy Shuman, Environmental Protection Agency, Office of Chemical Safety and Pollution Prevention, 1200 Pennsylvania Avenue NW, Washington, DC 20460, Phone: 202 564-2978, Email: shuman.amy@epa.gov.

Joel Wolf, Environmental Protection Agency, Office of Chemical Safety and Pollution Prevention, 1200 Pennsylvania Avenue NW, Mail Code 7405M, Washington, DC 20460, Phone: 202 564-0432, Email: wolf.joel@epa.gov.

RIN: 2070-AK73

195. Trichloroethylene; Rulemaking Under TSCA Section 6(A) [2070-AK83]

Legal Authority: 15 U.S.C. 2605 Toxic Substances Control Act

Abstract: Section 6 of the Toxic Substances Control Act (TSCA) requires EPA to address unreasonable risks of injury to health or the environment that the Administrator has determined are presented by a chemical substance under the conditions of use. Following a risk evaluation for trichloroethylene (TCE) carried out under the authority of TSCA section 6, EPA initiated rulemaking to address unreasonable risks of injury to health identified in the final risk evaluation. EPA's risk evaluation for TCE, describing the conditions of use and presenting EPA's determinations of unreasonable risk, is in docket EPA-HQ-OPPT-2019-0500, with additional information in docket EPA-HQ-OPPT-2016-0737.

Timetable:

Action | Date | FR Cite
NPRM | 03/00/23 |
Final Rule | 08/00/24 |

Regulatory Flexibility Analysis Required: Yes.

Agency Contact: Katelan McNamara, Environmental Protection Agency, Office of Chemical Safety and Pollution Prevention, 1200 Pennsylvania Avenue NW, Washington, DC 20460, Phone: 202 564-4361, Email: mcnamara.katelan@epa.gov.

Joel Wolf, Environmental Protection Agency, Office of Chemical Safety and Pollution Prevention, 1200 Pennsylvania Avenue NW, Mail Code 7405M, Washington, DC 20460, Phone: 202 564-0432, Email: wolf.joel@epa.gov.

RIN: 2070-AK83

196. Perchloroethylene; Rulemaking Under TSCA Section 6(A) [2070-AK84]

Legal Authority: 15 U.S.C. 2605 Toxic Substances Control Act

Abstract: Section 6 of the Toxic Substances Control Act (TSCA) requires EPA to address unreasonable risks of injury to health or the environment that the Administrator has determined are presented by a chemical substance under the conditions of use. Following a risk evaluation for perchloroethylene (PCE) carried out under the authority of TSCA section 6, EPA initiated rulemaking to address unreasonable risks of injury to health identified in the final risk evaluation. EPA's risk evaluation for PCE, describing the conditions of use and presenting EPA's determinations of unreasonable risk, is in docket EPA-HQ-OPPT-2019-0502, with additional information in docket EPA-HQ-OPPT-2016-0732.

Timetable:

Action | Date | FR Cite
NPRM | 02/00/23 |
Final Rule | 08/00/24 |

Regulatory Flexibility Analysis Required: Yes.

Agency Contact: Kelly Summers, Environmental Protection Agency, Office of Chemical Safety and Pollution Prevention, 1200 Pennsylvania Avenue NW, Mail Code 7405M, Washington, DC 20460, Phone: 202 564-2201, Email: summers.kelly@epa.gov.

Joel Wolf, Environmental Protection Agency, Office of Chemical Safety and Pollution Prevention, 1200 Pennsylvania Avenue NW, Mail Code 7405M, Washington, DC 20460, Phone: 202 564-0432, Email: wolf.joel@epa.gov.

RIN: 2070-AK84

197. N-Methylpyrrolidone; Rulemaking Under TSCA Section 6(A) [2070-AK85]

Legal Authority: 15 U.S.C. 2605 Toxic Substances Control Act

Abstract: Section 6 of the Toxic Substances Control Act (TSCA) requires EPA to address unreasonable risks of injury to health or the environment that the Administrator has determined are presented by a chemical substance under the conditions of use. Following a risk evaluation for n-methylpyrrolidone (NMP) carried out under the authority of TSCA section 6, EPA initiated rulemaking to address unreasonable risks of injury to health identified in the final risk evaluation. EPA's risk evaluation for NMP, describing the conditions of use and presenting EPA's determinations of unreasonable risk, is in docket EPA-HQ-OPPT-2019-0236, with additional information in docket EPA-HQ-OPPT-2016-0743.

Timetable:

Action | Date | FR Cite
NPRM | 05/00/23 |
Final Rule | 08/00/24 |

Regulatory Flexibility Analysis Required: Yes.

Agency Contact: Joel Wolf, Environmental Protection Agency, Office of Chemical Safety and Pollution Prevention, 1200 Pennsylvania Avenue NW, Mail Code 7405M, Washington, DC 20460, Phone: 202 564-0432, Email: wolf.joel@epa.gov.

Clara Hull, Environmental Protection Agency, Office of Chemical Safety and Pollution Prevention, 1200 Pennsylvania Avenue NW, Mail Code 7405M, Washington, DC 20460, Phone: 202 564-3954, Email: hull.clara@epa.gov.

RIN: 2070-AK85

ENVIRONMENTAL PROTECTION AGENCY (EPA)

35—TSCA

Long-Term Actions

198. Cyclic Aliphatic Bromide Cluster (HBCD); Rulemaking Under TSCA Section 6(A) [2070-AK71]

Legal Authority: 15 U.S.C. 2605 Toxic Substances Control Act

Abstract: Section 6 of the Toxic Substances Control Act (TSCA) requires EPA to address unreasonable risks of injury to health or the environment that the Administrator has determined are presented by a chemical substance under the conditions of use. Following a risk evaluation for cyclic aliphatic bromide cluster (HBCD) carried out under the authority of the TSCA section 6, EPA initiated rulemaking to address unreasonable risks of injury to health and the environment identified in the final risk evaluation. EPA's risk evaluation for HBCD, describing the conditions of use and presenting EPA's determinations of unreasonable risk, is in docket EPA-HQ-OPPT-2019-0237, with additional information in docket EPA-HQ-OPPT-2016-0735.

Timetable:

Action | Date | FR Cite
NPRM | 07/00/23 |
Final Rule | 07/00/24 |

Regulatory Flexibility Analysis Required: Yes.

Agency Contact: Alie Muneer, Environmental Protection Agency, Office of Chemical Safety and Pollution Prevention, 1200 Pennsylvania Avenue NW, Washington, DC 20460, Phone: 202 564-6369, Email: muneer.alie@epa.gov.

Ana Corado, Environmental Protection Agency, Office of Chemical Safety and Pollution Prevention, Mail Code 7408M, 1200 Pennsylvania Avenue NW, Washington, DC 20460, Phone: 202 564-0140, Email: corado.ana@epa.gov.

RIN: 2070-AK71

199. C.I. Pigment Violet 29; Rulemaking Under TSCA Section 6(A) [2070-AK87]

Legal Authority: 15 U.S.C. 2605 Toxic Substances Control Act

Abstract: Section 6 of the Toxic Substances Control Act (TSCA) requires EPA to address unreasonable risks of injury to health or the environment that the Administrator has determined are presented by a chemical substance under the conditions of use. Following a risk evaluation carried out for C.I. Pigment Violet 29 under the authority of TSCA section 6, EPA initiated rulemaking to address unreasonable risks of injury to health identified in the final risk evaluation. EPA's risk evaluation for C.I. Pigment Violet 29, describing the conditions of use and presenting EPA's determinations of unreasonable risk, is in docket EPA-HQ-OPPT-2018-0604, with additional information in docket EPA-HQ-OPPT-2016-0725.

Timetable:

Action | Date | FR Cite
NPRM | 07/00/23 |
Final Rule | 08/00/24 |

Regulatory Flexibility Analysis Required: Yes.

Agency Contact: Todd Coleman, Environmental Protection Agency, Office of Chemical Safety and Pollution Prevention, 1200 Pennsylvania Avenue NW, Mail Code 7404T, Washington, DC 20460, Phone: 202 564-1208, Email: coleman.todd@epa.gov.

Robert Courtnage, Environmental Protection Agency, Office of Chemical Safety and Pollution Prevention, 1200 Pennsylvania Avenue NW, Mail Code 7404T, Washington, DC 20460, Phone: 202 566-1081, Email: courtnage.robert@epa.gov.

RIN: 2070-AK87

[FR Doc. 2022-14612 Filed 8-5-22; 8:45 am]

BILLING CODE 6560-50-P